INTERNATIONAL TRADE COMMISSION

Investigation No. 701-TA-585 (Final)

Stainless Steel Flanges From China

Determination

On the basis of the record ¹ developed in the subject investigation, the United States International Trade Commission (“Commission”) determines, pursuant to the Tariff Act of 1930 (“the Act”), that an industry in the United States is materially injured by reason of imports of stainless steel flanges from China that have been found by the U.S. Department of Commerce (“Commerce”) to be subsidized by the government of China.²

¹ The record is defined in sec. 207.2(f) of the Commission's Rules of Practice and Procedure (19 CFR 207.2(f)).

² Countervailing Duty Investigation of Stainless Steel Flanges From the People's Republic of China: Final Affirmative Determination, 83 FR 15790, April 12, 2018.

Background

The Commission, pursuant to section 705(b) of the Act (19 U.S.C. 1671d(b)), instituted investigations effective August 16, 2017, following receipt of petitions filed with the Commission and Commerce by Core Pipe Products, Inc., Carol Stream, Illinois, and Maass Flange Corporation, Houston, Texas. The final phase of the investigations was scheduled by the Commission following notification of a preliminary determination by Commerce that imports of stainless steel flanges from China were being subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of February 7, 2018 (83 FR 5459). The hearing was held in Washington, DC, on April 10, 2018, and all persons who requested the opportunity were permitted to appear in person or by counsel.

The Commission made this determination regarding subsidized imports from China pursuant to section 705(b) of the Act (19 U.S.C. 1671d(b)). It completed and filed its determination in this investigation on May 29, 2018. The views of the Commission are contained in USITC Publication 4788 (May 2018), entitled Stainless Steel Flanges from China: Investigation No. 701-TA-585 (Final).

By order of the Commission.
Issued: May 29, 2018.
Lisa Barton,
Secretary to the Commission.

[FR Doc. 2018-11870 Filed 6-1-18; 8:45 am]

BILLING CODE 7020-02-P